ENVIRONMENTAL PROTECTION AGENCY

40 CFR Part 300

[EPA-R4-SFUND-2011-0574; FRL-9463-7]

National Oil and Hazardous Substances Pollution Contingency Plan National Priorities List

AGENCY: Environmental Protection Agency.

ACTION: Withdrawal of proposed rule.

SUMMARY: On July 15, 2011, EPA published a Notice of Intent to Delete and a direct final Notice of Deletion for the Hipps Road Landfill from the National Priorities List. The EPA is withdrawing the Notice of Intent to Delete due to an administrative error in processing the deletion notice. The online Federal Document Management System (FDMS) did not include required documents including the State of Florida's concurrence letter and the Final Closeout Report as required. The FDMS will be updated to include these documents.

After the administrative error is corrected on the intent to delete the Hipps Road Landfill Superfund Site from the National Priority List, EPA will re-publish a Notice of Intent to Delete in the Federal Register.

DATES: The proposed rule published on July 15, 2011 (76 FR 41751) is withdrawn as of September 13, 2011.

ADDRESSES: Information Repositories: Comprehensive information on the Site, as well as the comments that we received during the comment period, are available in docket EPA-R4-SFUND-0574, accessed through the http://www.regulations.gov Web site. Although listed in the docket index, some information is not publicly available, e.g., CBI or other information whose disclosure is restricted by statue. Certain other material, such as copyrighted material, will be publicly available only in hard copy. Publicly available docket materials are available either electronically in http://www.regulations.gov or in hard copy at:

EPA Record Center, 61 Forsyth Street, SW., Atlanta, GA 30303. Hours: 8 a.m. to 4 p.m., Monday through Friday.

Jacksonville Public Library, 6886 103rd Street, Jacksonville, FL 32210. Monday-Thursday: 10 a.m.-9 p.m., Friday & Saturday: 10 a.m.-6 p.m. Sunday: 1 p.m.-6 p.m.

FOR FURTHER INFORMATION CONTACT: Scott Miller, Remedial Project Manager, U.S. Environmental Protection Agency, Region 4, 61 Forsyth Street, SW., Atlanta, GA 30303, (404-562-9120), e-mail: miller.scott@epa.gov.

SUPPLEMENTARY INFORMATION:

List of Subjects in 40 CFR Part 300

Environmental protection, Air pollution control, Chemicals, Hazardous Waste, Hazardous substances, Intergovernmental relations, Penalties, Reporting and recordkeeping requirements, Superfund, Water pollution control, Water Supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: August 30, 2011.
Gwendolyn Keyes Fleming,
Regional Administrator, Region 4.

Accordingly, the amendment to Table 1 of Appendix B to Part 300 to remove the entry “Hipps Road Landfill”, “Duval County, FL” is withdrawn as of September 13, 2011.

[FR Doc. 2011-23522 Filed 9-12-11; 8:45 am]

BILLING CODE 6560-50-P